DEPARTMENT OF TRANSPORTATION

Research and Special Programs Administration

49 CFR Part 107

[Docket No. RSPA-00-8439 (HM-208D)]

RIN 2137-AD53

Hazardous Materials: Temporary Reduction of Registration Fees

AGENCY: Research and Special Programs Administration (RSPA), DOT.

ACTION: Notice of proposed rulemaking; status.

SUMMARY: RSPA is issuing this document to inform persons of the status of a notice of proposed rulemaking (NPRM) which it published in the Federal Register on December 7, 2000, proposing to: temporarily lower the registration fees paid by persons who transport or offer for transportation in commerce certain categories and quantities of hazardous materials; charge not-for-profit organizations the same registration fee as a small business; use the North American Industry Classification System for size criteria for determining if an entity is a small business; and allow payment by additional credit cards than previously authorized. Consistent with the President's Fiscal Year 2003 budget request to Congress, RSPA is further delaying final action on these proposals pending enactment of the Fiscal Year 2003 Department of Transportation appropriations. Therefore, under the existing regulations, for registration year 2002-2003, which begins July 1, 2002, the registration fees remain $300 (including a $25 processing fee) for small businesses and $2,000 (including a $25 processing fee) for all other registrants.

FOR FURTHER INFORMATION CONTACT: Mr. David Donaldson, Office of Hazardous Materials Planning and Analysis, (202) 366-4484, or Ms. Deborah Boothe, Office of Hazardous Materials Standards, (202) 366-8553, Research and Special Programs Administration, U.S. Department of Transportation, 400 Seventh Street, SW., Washington, DC 20590.

SUPPLEMENTARY INFORMATION: On December 7, 2000 (65 FR 76889), RSPA issued a NPRM proposing to temporarily lower the registration fee for all registrants for the next six registration years (2001-2002 through 2006-2007) in order to eliminate an unexpended balance (or surplus) in the Hazardous Materials Emergency Preparedness (HMEP) grants fund. The HMEP grants program supports hazardous material emergency response planning, training and related activities by States, local governments, and Indian tribes. RSPA also proposed to charge not-for-profit organizations the same registration fee as a small business; amend its reference to the Small Business Administration's (SBA) small business criteria to reflect SBA's replacement of the Standard Industrial Classification (SIC) code system with the North American Industry Classification System; and allow payment by additional credit cards than previously authorized.

On May 2, 2001 (66 FR 22080), RSPA published a status document in the Federal Register stating that, consistent with the President's Fiscal Year 2002 budget request to Congress, it was delaying final action on the proposals in the NPRM pending enactment of the Fiscal Year 2002 Department of Transportation appropriations. In that budget request, the President proposed to fund a portion of RSPA's hazardous materials safety program from fees collected through the Hazardous Materials Registration program. Although that proposal was not adopted by Congress in the Fiscal Year 2002 DOT appropriations, the President's Fiscal Year 2003 budget request to Congress again proposes to fund a portion of RSPA's hazardous materials safety program budget from fees collected through the Hazardous Materials Registration program. Therefore, consistent with the President's current budget request to Congress, RSPA is again delaying final action on the proposals contained in this rulemaking to temporarily reduce registration fees pending enactment of the Fiscal Year 2003 Department of Transportation appropriations.

Consistent with current regulations, for registration year 2002-2003, which begins July 1, 2002, the registration fees remain unchanged at $300 (including a $25 processing fee) for small businesses and $2,000 (including a $25 processing fee) for all other registrants. Later this year, RSPA intends to issue a final rule on other proposals contained in the December 7, 2000 NPRM. A copy of the 2002-2003 registration form can be obtained after May 1, 2002, from our Web site at http://hazmat.dot.gov/register.htm and from our fax-on-demand service at 1-800-467-4922 (extension 2; document 700) .

Issued in Washington, DC, on March 8, 2002.
Frits Wybenga,
Deputy Associate Administrator for Hazardous Materials Safety.

[FR Doc. 02-6122 Filed 3-13-02; 8:45 am]

BILLING CODE 4910-60-P